DEPARTMENT OF THE INTERIOR

Geological Survey

Agency Information Collection Activities: Comment Request

AGENCY: U.S. Geological Survey (USGS), Interior.

ACTION: Notice of an extension of an information collection (1028-0068).

SUMMARY: To comply with the Paperwork Reduction Act of 1995 (PRA), we are notifying the public that we will submit to OMB an information collection request (ICR) to renew approval of the paperwork requirements for “Ferrous Metals Surveys, (13 USGS forms).” This notice provides the public an opportunity to comment on the paperwork burden of these forms.

DATES: Submit written comments by November 27, 2007.

ADDRESSES: You may submit comments on this information collection to the Department of the Interior, USGS, via:

• E-mail: atravnic@usgs.gov. Use Information Collection Number 1028-0068 in the subject line.

• Fax: (703) 648-7069. Use Information Collection Number 1028-0068 in the subject line.

• Mail or hand-carry comments to the Department of the Interior; USGS Clearance Officer, U.S. Geological Survey, 807 National Center, Reston, VA 20192. Please reference Information Collection 1028-0068 in your comments.

FOR FURTHER INFORMATION CONTACT: Scott F. Sibley at (703) 648-4976. Copies of the forms can be obtained at no cost at www.reginfo.gov or by contacting the USGS clearance officer at the phone number listed below.

SUPPLEMENTARY INFORMATION: Title: Ferrous Metals Surveys.

OMB Control Number: 1028-0068.

Form Number: Various (13 forms).

Abstract: Respondents supply the U.S. Geological Survey with domestic production and consumption data on ferrous and related metals, some of which are considered strategic and critical. This information will be published as chapters in Minerals Yearbooks, monthly Mineral Industry Surveys, annual Mineral Commodity Summaries, and special publications, for use by Government agencies, industry, education programs, and the general public.

We will protect information considered proprietary under the Freedom of Information Act (5 U.S.C. 552) and its implementing regulations (43 CFR Part 2), and under regulations at 30 CFR 250.197, “Data and information to be made available to the public or for limited inspection.” Responses are voluntary. No questions of a “sensitive” nature are asked. We intend to release data collected on these 13 forms only in a summary format that is not company-specific.

Frequency: Monthly and Annually.

Estimated Number and Description of Respondents: Approximately 1,307 producers and consumers of ferrous and related metals. Respondents are canvassed for one frequency period (e.g., monthly respondents are not canvassed annually).

Estimated Number of Responses: 2,979.

Annual burden hours: 1,614.

Estimated Annual Reporting and Recordkeeping “Hour” Burden: The currently approved “hour” burden for these 13 forms is 1,978 hours. We estimate the public reporting burden averages 10 minutes to 1 hour per response. This includes the time for reviewing instructions, gathering and maintaining data, and completing and reviewing the information.

Estimated Reporting and Recordkeeping “Non-Hour Cost” Burden: We have not identified any “non-hour cost” burdens associated with this collection of information.

Public Disclosure Statement: The PRA (44 U.S.C. 3501, et seq.) provides that an agency may not conduct or sponsor, and you are not required to respond to, a collection of information unless it displays a currently valid OMB control number. Until OMB approves a collection of information, you are not obligated to respond.

Comments: Before submitting an ICR to OMB, PRA section 3506(c)(2)(A) (44 U.S.C. 3501, et seq.) requires each agency “ * * * to provide notice * * * and otherwise consult with members of the public and affected agencies concerning each proposed collection of information * * * ” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we publish this Federal Register notice announcing that we will submit this ICR to OMB for approval. The notice provided the required 60-day public comment period.

USGS Information Collection Clearance Officer: Alfred Travnicek, 703-648-7231.

Dated: September 21, 2007.
John H. DeYoung, Jr.,
Chief Scientist, Minerals Information Team.

[FR Doc. 07-4772 Filed 9-27-07; 8:45 am]

BILLING CODE 4311-AM-M